DEPARTMENT OF VETERANS AFFAIRS

[OMB Control No. 2900-0159]

Agency Information Collection Activity Under OMB Review: Matured Endowment Notification

AGENCY: Veterans Benefits Administration, Department of Veterans Affairs.

ACTION: Notice.

SUMMARY: In compliance with the Paperwork Reduction Act (PRA) of 1995, this notice announces that the Veterans Benefits Administration, Department of Veterans Affairs, will submit the collection of information abstracted below to the Office of Management and Budget (OMB) for review and comment. The PRA submission describes the nature of the information collection and its expected cost and burden and it includes the actual data collection instrument.

DATES: Comments must be submitted on or before March 5, 2018.

ADDRESSES: Submit written comments on the collection of information through www.Regulations.gov, or to Office of Information and Regulatory Affairs, Office of Management and Budget, Attn: VA Desk Officer; 725 17th St. NW, Washington, DC 20503 or sent through electronic mail to oira_submission@omb.eop.gov. Please refer to “OMB Control No. 2900-0159” in any correspondence.

FOR FURTHER INFORMATION CONTACT: Cynthia Harvey-Pryor, Enterprise Records Service (005R1B), Department of Veterans Affairs, 810 Vermont Avenue NW, Washington, DC 20420, (202) 461-5870 or email cynthia.harvey-pryor@va.gov. Please refer to “OMB Control No. 2900-0159” in any correspondence.

SUPPLEMENTARY INFORMATION:

Authority: 38 U.S.C. 1917 and 1952, and 38 CFR 6.69.

Title: Matured Endowment Notification, VA Form 29-5767.

OMB Control Number: 2900-0159.

Type of Review: Reinstatement of a currently approved collection.

Abstract: This form is used to notify the insured that his/her endowment policy has matured, and to elicit their desired disposition of the proceeds of the policy. The information on the form is required by law, 38 U.S.C. 1917 and 1952, and 38 CFR 6.69.

An agency may not conduct or sponsor, and a person is not required to respond to a collection of information unless it displays a currently valid OMB control number. The Federal Register Notice with a 60-day comment period soliciting comments on this collection of information was published on September 20, 2017, Volume 82, No. 181, pages 44027—44028.

Affected Public: Individuals and households.

Estimated Annual Burden: 2,867 hours.

Estimated Average Burden per Respondent: 20 minutes.

Frequency of Response: One time.

Estimated Number of Respondents: 8,600.

By direction of the Secretary.
Cynthia Harvey-Pryor,
Department Clearance Officer, Office of Quality, Privacy and Risk, Department of Veterans Affairs.

[FR Doc. 2018-02076 Filed 2-1-18; 8:45 am]

BILLING CODE 8320-01-P